DEPARTMENT OF AGRICULTURE

Agricultural Research Service

Notice of Intent To Seek Approval To Collect Information

AGENCY: Agricultural Research Service, USDA.

ACTION: Notice and request for comments.

SUMMARY: In accordance with the Paperwork Reduction Act of 1995 and the Office of Management and Budget (OMB) regulations, this notice announces the Agricultural Research Service's intent to conduct focus groups to understand insights and experiences of manureshed managers.

DATES: Comments on this notice must be received by March 26, 2024 to be assured of consideration.

Comments: You may submit comments by emailing Sarah Beebout at Sarah.Beebout@usda.gov.

FOR FURTHER INFORMATION CONTACT: Sheri Spiegal at 415-264-2906, Sheri.Spiegal@usda.gov.

SUPPLEMENTARY INFORMATION:

Title: Focus Groups to Understand Insights and Experiences of Manureshed Managers.

OMB Number: 0518-XXXX.

Expiration Date: Three years from approval date.

Type of Request: Approval for focus groups.

Abstract: This is a request, made by ARS National Program Leader and ARS Rangeland Management Specialist, that the OMB approve, under the Paperwork Reduction Act of 1995, a 1-year generic clearance for the ARS to conduct focus groups to understand the perspectives and experiences of agricultural and natural resource professionals who facilitate collaborative “manureshed” management. A manureshed is the land geographically and economically connected to confined animal feeding operations where manure from the operations can be recycled to meet social, economic, and environmental goals. The USDA-ARS Manureshed Working Group will use focus group results to design research and extension activities that address the knowledge gaps and opportunities illuminated by practitioners on the ground.

Description of Focus Groups

Five focus groups will be held in three states for a total of 15 sessions. At each focus group meeting, facilitators will follow a predetermined research instrument consisting of a preamble, a presentation of materials, and 13 interactive questions. Each focus group meeting is expected to last up to 2 hours and comprise 10 or fewer participants not counting facilitators.

Estimate of Burden

Responding to an invitation for a focus group meeting is estimated to take 3 minutes. If the respondent agrees to attend, the participant will spend 120 minutes (2 hours) at the meeting.

Respondents: Animal farmers, crop farmers, manure professionals, natural resource management professionals, and other stakeholders who each have a key role in facilitating manureshed management in Colorado, Minnesota, and New Mexico.

Estimated Number of Respondents: 300.

Estimated Total Annual Burden on Respondents: 315 hours.

Comments

Manure management poses grand challenges for modern agriculture. While surplus manure nutrients exist in some places, great deficits persist in others. This uneven distribution can harm ecosystems, social systems, and producers' bottom lines. Recycling manure nutrients from areas of surplus to agricultural fields in need is a traditional approach that has become increasingly difficult as agriculture has become specialized, with crops and animals increasingly grown on separate farms, and concentrated, with specialized crop and animal farms consolidating in certain areas of the U.S. landscape. Manuresheds bridge the gaps between otherwise disparate components of modern agriculture.

The USDA-Agricultural Research Service (USDA-ARS) Manureshed Working Group was founded in 2018 to develop viable strategies for cooperative manure management. The group comprises federal and university researchers at ten sites across the United States and Canada in the USDA-ARS Long-Term Agroecosystem Research Network, along with members from producer groups, federal action agencies, cooperative extension, private manure management entities, and animal industry groups. The Manureshed Working Group has begun to define the issues and describe potential solutions using its own research-based and extension-based knowledge with geospatial mapping and modeling.

Despite the new understanding developed by the working group, much remains unknown about how manuresheds can be managed for desirable outcomes for all stakeholders involved. The variability of animal manures, the complexity of agricultural systems, the social separation of different types of farmers, and persistent technological challenges create social, economic, and technological barriers to manureshed management in the United States—some of which are barely understood. The next critical step for manureshed researchers is to engage directly with people on the ground who recycle manure, to incorporate their insights into targeted, solutions-oriented research and extension.

At each focus group, facilitators will first present materials and then ask 13 interactive questions related to the materials:

Facilitators present manureshed maps and diagrams on PowerPoint projector and in handouts:

1. Map of manureshed originating from animal farms in focal manure “source” county. Depending on focus group location, map will represent Chavez County, New Mexico; Weld County, Colorado; or Morrison County, Minnesota.

2. Map of trans-regional manureshed originating from the region containing the focal source county.

3. Conceptual diagram of manureshed management: components and actors.

Facilitators ask interactive focus group questions:

1. What is your role in the manureshed system? How long have you been in this role? [Display “Conceptual Diagram of Manureshed Management”]

2. What is the spatial scale of the manureshed that you operate in?

3. Manure starts with feed, grown locally or imported. Please tell me about the feed ration in your area. Of the total feed supplied, what approximate percent is forages? Grains? Pasture usage? Where does animal feed in your manureshed come from originally?

4. What factors drive the decision-making of the suppliers and recipients about where manure is redistributed? [Prompt: Examples include soil type, land ownership, trucking infrastructure, social networks, friendship, cropping, water availability for crop or range, diesel price, weather, urban encroachment, contaminants, local technologies for manure transformation and transport, and availability of information.]

5. What is a “point of pride” or best aspect of manure/nutrient management in your manureshed? What is the most worrisome aspect of manure/nutrient management in your manureshed?

6. In general, what factors or systems make it easy to redistribute manure from places of surplus to agricultural fields in need? What are the barriers?

7. In general, what is the percentage of manure that stays on animal farms vs. manure exported to other properties? How far does manure generally travel off the farm? How is it transported? Does the distribution shown in the “Map of Manureshed Originating from Animal Farms” reflect what you see in your area?

8. Who are the main suppliers and recipients of transported manure? How do the suppliers and recipients know each other? Is a broker or other intermediary involved in manure exchange? Have you ever heard about the need to supply or receive more manure without a recipient or supplier?

9. Is the market value of manure correct? What creates the value, recognizing this could be a negative price for situations where there is a cost for manure to be removed? Are there ways to improve/create functional manure markets? Does anyone have plans to shift manure management to participate in carbon markets?

10. What are the main types of manure treatment and storage technologies available? Are there technical innovations (e.g., solid separators, chemical amendments, vermiculture, biochar, digesters) that anyone is considering? What research is needed on these? Is financing available?

11. Tell me about the role of regulations. Which seem reasonable or appropriate for maintaining environmental health and social wellbeing in your manureshed? Are there any changes you would make to these regulations to improve efficiency?

12. What are your pie-in-the-sky nutrient recycling dreams? What would your ideal form of manure nutrient recycling look like if no barriers existed? Without barriers, what spatial scale would you operate at? For instance, would the vision in the “Map of Trans-Regional Manuresheds” come into play? [Prompt: Would that dream entail local manure recycling or commercialization of standardized manure nutrient products or something else entirely?]

13. What type of information is necessary for collaborative manureshed management to be effective/possible? If you want information on nutrient management, who do you turn to?

The USDA-ARS Manureshed Working Group will use focus group results to design research that addresses the knowledge gaps and opportunities illuminated by practitioners on the ground. For example, if focus groups in a state reveal that land use change is a major hindrance to successful manureshed management, subsequent research and extension in that state will focus on that issue. If focus groups reveal that a lack of social relationships between animal farmers with surplus manure and crop farmers who could use it, the ensuing research and extension would focus thusly. This honing of research, designed to support practitioners, is impossible without learning from practitioners directly. Focus group results will also direct extension activities in each state, structuring future discussions among the otherwise-disparate focus group populations with an eye toward advancing collaborative management opportunities. This proposed work is a form of “participatory action research” in which researchers and stakeholders work together to examine an issue and change it for more desired outcomes.

Jeffrey Silverstein,
Acting Associate Administrator, ARS.

[FR Doc. 2024-01506 Filed 1-25-24; 8:45 am]

BILLING CODE 3410-03-P